DEPARTMENT OF COMMERCE

International Trade Administration

[A-570-815]

Sulfanilic Acid From the People's Republic of China; Final Results of Antidumping Duty Administrative Review

AGENCY: Import Administration, International Trade Administration, Department of Commerce.

ACTION: Notice of final results of the 1997-1998 antidumping duty administrative review of sulfanilic acid from the People's Republic of China.

SUMMARY: On September 8, 1999, the Department of Commerce (the Department) published the preliminary results of its administrative review of the antidumping duty order on sulfanilic acid from the People's Republic of China (PRC). The merchandise covered by this order is all grades of sulfanilic acid, which include technical (or crude) sulfanilic acid, refined (or purified) sulfanilic acid and sodium salt of sulfanilic acid. The review covers the period August 1, 1997 through July 31, 1998, and all PRC exporters of the subject merchandise.

Based on our analysis of the comments received, we have made changes in the margin calculations. Therefore, the final results differ from the preliminary results. The final weighted-average dumping margins for the reviewed firms are listed below in the section entitled “Final Results of the Review.”

EFFECTIVE DATE: March 13, 2000.

FOR FURTHER INFORMATION CONTACT: Sean Carey or Dana Mermelstein, AD/CVD Enforcement, Office 7, Import Administration, International Trade Administration, U.S. Department of Commerce, 14th Street and Constitution Avenue NW., Washington, DC 20230; telephone: (202) 482-3964 or (202) 482-3208, respectively.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR Part 351 (1998).

Background

On September 8, 1999, the Department published the preliminary results of its administrative review of the antidumping duty order on sulfanilic acid from the PRC (64 FR 48788). The review covers all exporters of sulfanilic acid. The period of review (POR) is August 1, 1997 through July 31, 1998. We invited parties to comment on our preliminary results of review. No timely requests were made for a public hearing. The Department has conducted this review in accordance with section 751 of the Act.

Scope of Review

The product covered by this review are all grades of sulfanilic acid, which include technical (or crude) sulfanilic acid, refined (or purified) sulfanilic acid and sodium salt of sulfanilic acid.

Sulfanilic acid is a synthetic organic chemical produced from the direct sulfonation of aniline with sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, classifiable under the subheading 2921.42.24 of the Harmonized Tariff Schedule (HTS), contains 96 percent minimum sulfanilic acid, 1.0 percent maximum aniline, and 1.0 percent maximum alkali insoluble materials. Refined sulfanilic acid, also classifiable under the subheading 2921.42.24 of the HTS, contains 98 percent minimum sulfanilic acid, 0.5 percent maximum aniline and 0.25 percent maximum alkali insoluble materials.

Sodium salt (sodium sulfanilate), classifiable under the HTS subheading 2921.42.79, is a powder, granular or crystalline material which contains 75 percent minimum equivalent sulfanilic acid, 0.5 percent maximum aniline based on the equivalent sulfanilic acid content, and 0.25 percent maximum alkali insoluble materials based on the equivalent sulfanilic acid content.

Although the HTS subheadings are provided for convenience and customs purposes, our written description of the scope of this proceeding is dispositive.

Analysis of Comments Received

All issues raised in the case and rebuttal briefs by parties to this administrative review are addressed in the “Issues and Decision Memorandum” (Decision Memo) from Joseph A. Spetrini, Deputy Assistant Secretary, Import Administration, to Robert S. LaRussa, Assistant Secretary for Import Administration, dated March 6, 2000 which is hereby adopted and incorporated by reference into this notice. A list of the issues which parties have raised and to which we have responded, all of which are in the Decision Memo, is attached to this notice as an Appendix. Parties can find a complete discussion of all issues raised in this review and the corresponding recommendations in this public memorandum which is on file in Import Administration's Central Records Unit (CRU), Room B-099 of the Main Commerce Building. For a discussion of our determination with respect to this matter, see the (topic heading) section of the Decision Memo, accessible in the CRU and on the Web at www.ita.doc.gov/import_admin/record/frn under the (topic heading) section. The paper copy and electronic version of the Decision Memo are identical in content.

Use of Facts Available (If Necessary)

For a discussion of our application of the facts available, see the “Facts Available” section of the Decision Memo, which is on file in the CRU and also available at the Web address shown above.

Changes Since the Preliminary Results

Based on our analysis of comments received, we have made certain changes in the margin calculations. We also have corrected certain programming and clerical errors in our preliminary results, where applicable. Any alleged programming and clerical errors with which we do not agree are discussed in the relevant sections of the Decision Memo, accessible in the CRU and also available at the Web address shown above.

Final Results of Review

We determine that the following percentage weighted-average margins exist for the period August 1, 1997 through July 31, 1998:

Manufacturer/producer/exporter | Time period | Margin (percent)
Yude (Yude/Xinyu) Chemical Industry, Co. and Zhenxing (Zhenxing/Mancheng) Chemical Industry, Co ¹ | 8/1/97-7/31/98 | 18.75
PRC Rate ² | 8/1/97-7/31/98 | 85.20
¹ Exporters Yude (Yude/Xinyu) and Zhenxing (Zhenxing/Mancheng) have been collapsed for the purposes of this administrative review. See Sulfanilic Acid from the People's Republic of China: Preliminary Results of Antidumping Administrative Review, 64 FR 48788 (September 8, 1999); Decision Memo, Affiliation/Collapsing section.
² This rate will be applied to all firms other than Yude (Yude/Xinyu) and Zhenxing (Zhenxing/Mancheng), including all firms which did not respond to our questionnaire.

The Department shall determine, and Customs shall assess, antidumping duties on all appropriate entries. In accordance with 19 CFR 351.212(b), we have calculated exporter/importer-specific assessment rates. With respect to both export price and constructed export price sales, we divided the total dumping margins for the reviewed sales by the total entered value of those reviewed sales for each importer. We will direct Customs to assess the resulting percentage margins against the entered Customs values for the subject merchandise on each of that importer's entries under the relevant order during the review period.

Cash Deposit Requirements

The following deposit requirements will be effective upon publication of this notice of final results of administrative review for all shipments of sulfanilic acid from the PRC entered, or withdrawn from warehouse, for consumption on or after the publication date, as provided for by section 751(a)(2)(c) of the Act: (1) The cash deposit rate for Yude/Xinyu and Zhenxing/Mancheng will be the rate shown above except that, for firms whose weighted-average margins are less than 0.5 percent and therefore de minimis, the Department shall require no deposit of estimated antidumping duties; (2) the cash deposit rate for all other PRC exporters (i.e., the PRC rate) will be 85.20 percent; and (3) the cash deposit rate for non-PRC exporters of subject merchandise from the PRC will be the rate applicable to the PRC supplier of that exporter. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the return or destruction of proprietary information disclosed under APO in accordance with 19 CFR 351.305, or conversion to judicial protective order is hereby requested. Failure to comply with the regulations and terms of an APO is a violation which is subject to sanction.

We are issuing and publishing this determination in accordance with sections 751(a)(1) and 777(i) of the Act.

Dated: March 6, 2000.
Robert S. LaRussa.
Assistant Secretary for Import Administration.

Appendix

Issues in the Decision Memo

1. Facts Available

2. Non-Market Economies

Factor Valuation

3. Affiliation

Control

Collapsing

4. EP/CEP

Movement Expenses

5. Circumstances-of-Sale Adjustments

Indirect Selling Expenses

6. Packing and Movement Expenses

Inventory Carrying Costs

7. Miscellaneous Issues

8. Programming and Clerical Errors

[FR Doc. 00-6085 Filed 3-10-00; 8:45 am]

BILLING CODE 3510-DS-P